DEPARTMENT OF ENERGY

Federal Energy Regulatory Commission

[Project No. 2221-041]

Empire District Electric Company; Notice of Intent To Prepare an Environmental Assessment

On February 28, 2020, Empire District Electric Company (Empire District) filed an application for a new major license to continue operating the existing, 16-megawatt Ozark Beach Hydroelectric Project No. 2221 (Ozark Beach Project). Empire District filed an amended application on August 28, 2020. The project is located on the White River, near the Town of Forsyth, in Taney County, Missouri. The project occupies 5.1 acres of federal land administered by the U.S. Army Corps of Engineers.

In accordance with the Commission's regulations, on November 9, 2023, Commission staff issued a notice that the project was ready for environmental analysis (REA notice). Based on the information in the record staff does not anticipate that licensing the project would constitute a major federal action significantly affecting the quality of the human environment. Therefore, staff intends to prepare an Environmental Assessment (EA) on the application to license the Ozark Beach Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | June 2024.¹
Comments on EA | July 2024.

Any questions regarding this notice may be directed to Colleen Corballis at colleen.corballis@ferc.gov or call at 202-502-8598.

¹ The Council on Environmental Quality's (CEQ) regulations under 40 CFR 1501.10(b)(1) require that EAs be completed within 1 year of the federal action agency's decision to prepare an EA. This notice establishes the Commission's intent to prepare an EA for the Ozark Beach Project. Therefore, in accordance with CEQ's regulations, the EA must be issued within 1 year of the issuance date of this notice.

Dated: January 22, 2024.
Debbie-Anne A. Reese,
Acting Secretary.

[FR Doc. 2024-01638 Filed 1-26-24; 8:45 am]

BILLING CODE 6717-01-P